DEPARTMENT OF HOMELAND SECURITY

Coast Guard

33 CFR Part 151

[USCG-2002-13147]

RIN 1625-AA51

Penalties for Non-Submission of Ballast Water Management Reports

AGENCY: Coast Guard, DHS.

ACTION: Final rule; correction.

SUMMARY: The Coast Guard is correcting a final rule that appeared in the Federal Register of June 14, 2004 (69 FR 32864). The final rule changes regulations for vessels equipped with ballast water tanks bound for ports or places within the United States. These corrections clarify the final rule.

DATES: This correction is effective on June 14, 2004.

FOR FURTHER INFORMATION CONTACT: If you have questions on this rule, call Mr. Bivan Patnaik, Project Manager, Environmental Standards Division, Coast Guard, telephone 202-267-1744, e-mail: bpatnaik@comdt.uscg.mil. If you have questions on viewing the docket, call Ms. Andrea M. Jenkins, Program Manager, Docket Operations, telephone 202-366-0271.

SUPPLEMENTARY INFORMATION: In FR Doc. 04-13173 appearing on page 32864 of the Federal Register of Monday, June 14, 2004, the following corrections are made:

1. On page 32865, the paragraph beginning at the end of the second column and continuing in the third column is corrected to read as follows:

“Although, the penalty amount of $25,000 was discussed in the notice of proposed rulemaking, the Federal Civil Penalties Inflation Adjustment Act of 1990, as amended by the Debt Collection Improvement Act of 1996, requires the Coast Guard to adjust penalties for violating Federal laws set by Congress long ago where the deterrent value of the penalties have weakened with time due to inflation. As such, we have changed the monetary amount authorized by NISA, from $25,000 to $27,500. With respect to the commenters' concern about the penalty amount, we believe there is some confusion. The penalty is not $27,500; rather, the penalty is not to exceed $27,500. We have the discretion to issue a penalty of up to $27,500, depending on the facts of each individual case.”

2. On page 32866, the first paragraph of the third column, remove the three asterisks in the first sentence.

3. On page 32867, in the second full paragraph of the second column, remove the word “COPT” and in its place, add the word “COTP”.

4. To clarify the Coast Guard's response to comments submitted in the Comments on Definitions section on page 32867, the second paragraph of the third column is corrected as follows:

The Coast Guard disagrees with this comment. “Ports and places” are defined in § 151.2025 and are defined in the exact way as in 33 CFR 160.204 of, “Notification of Arrivals, Departures, Hazardous Conditions, and Certain Dangerous Cargoes.” The Coast Guard must evaluate the BWM operations of all vessels operating within U.S. waters. Therefore, MODUs or OSVs servicing OCS facilities within the EEZ while moving from one COTP zone to another, must submit ballast water reporting forms. MODUs or OSVs servicing OCS facilities outside the EEZ will not be required to submit ballast water reporting forms, however, upon returning to ports or places of the U.S they will have to submit ballast water reporting forms. Regulatory language in § 151.2041 will be amended to reflect this clarification. If, after a period of time we determine that we are receiving data that does not benefit our evaluation, we will then revisit the program and adjust it accordingly.

5. On page 32869, in the middle column, in amendatory instruction numbers 1 and 4, remove the word “continues”.

§ 151.2041 [Amended]

6. On page 32870, in the second column, correct the section heading for § 151.2041 and paragraph (a) by removing the phrase “bound for ports or places in the United States” and add in its place the phrase “bound for ports or places of the United States”.

Dated: June 23, 2004.
Howard L. Hime,
Acting Director of Standards, Marine Safety, Security and Environmental Protection.

[FR Doc. 04-15033 Filed 7-6-04; 8:45 am]

BILLING CODE 4910-15-P